DEPARTMENT OF COMMERCE

National Oceanic and Atmospheric Administration

RIN 0648-XJ80

Fisheries of the South Atlantic; South Atlantic Fishery Management Council; Public Meeting

AGENCY: National Marine Fisheries Service (NMFS), National Oceanic and Atmospheric Administration (NOAA), Commerce.

ACTION: Notice of the South Atlantic Fishery Management Council's South Atlantic Habitat and Ecosystem Internet Map Server (IMS) Refinement Workshop.

SUMMARY: The South Atlantic Fishery Management Council (Council) is conducting a South Atlantic Habitat and Ecosystem IMS Refinement Workshop in St. Petersburg, FL.

DATES: The workshop will take place September 9 - 10, 2008. See SUPPLEMENTARY INFORMATION for specific dates and times.

ADDRESSES: The workshop will be held at the Florida Fish and Wildlife Research Institute, 100 Eighth Avenue, S.E., St. Petersburg, FL; telephone: (727) 896-8626.

FOR FURTHER INFORMATION CONTACT: Kim Iverson, Public Information Officer, South Atlantic Fishery Management Council, 4055 Faber Place Drive, Suite 201, North Charleston, SC 29405; telephone: (843) 571-4366 or toll free (866) SAFMC-10; fax: (843) 769-4520; email: kim.iverson@safmc.net.

SUPPLEMENTARY INFORMATION: The IMS Workshop will take place from 8:30 a.m. - 5 p.m. on September 9, 2008, and from 8:30 a.m. - 1 p.m. on September 10, 2008. The Workshop is designed to continue the refinement of the Council's Internet Map Server as a support tool for Ecosystem-based management. Invited workshop participants will review the present structure of the IMS and future capabilities, identify Geographic Information Systems (GIS) needs supporting management, research, and regional collaborations and provide recommendations. Participants will also identify additional data and GIS for possible inclusion in the IMS and provide recommendations for enhancing and refining the functional capabilities of the IMS to better support local, state, and other regional habitat and ecosystem GIS needs.

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under section 305(c) of the Magnuson-Stevens Act, provided the public has been notified of the Council's intent to take final action to address the emergency.

Special Accommodations

These meetings are physically accessible to people with disabilities. Requests for auxiliary aids should be directed to the Council office (see ADDRESSES) 3 days prior to the meetings.

Note: The times and sequence specified in this agenda are subject to change.

Dated: August 15, 2008.
Tracey L. Thompson,
Acting Director, Office of Sustainable Fisheries, National Marine Fisheries Service.

[FR Doc. E8-19232 Filed 8-19-08; 8:45 am]

BILLING CODE 3510-22-S